DEPARTMENT OF ENERGY

Federal Energy Regulatory Commission

[Project No. 2336-101]

Georgia Power Company; Notice of Waiver of Water Quality Certification

On January 3, 2022, Georgia Power Company (Georgia Power) filed an application for a new license for the Lloyd Shoals Hydroelectric Project (project) in the above captioned docket. On June 24, 2022, Georgia Power filed with the Georgia Department of Natural Resources, Environmental Protection Division (Georgia EPD), a request for water quality certification for the project under section 401(a)(1) of the Clean Water Act.

On July 19, 2022, staff provided the certifying authority with written notice pursuant to 40 CFR 121.6(b) that the applicable reasonable period of time for the state to act on the certification request was one (1) year from the date of receipt of the request, and that the certification requirement for the license would be waived if the certifying authority failed to act by June 24, 2023. Because the state did not act by June 24, 2023, we are notifying you pursuant to 40 CFR 121.9(c), and section 401(a)(1) of the Clean Water Act, 33 U.S.C. 1341(a)(1), that waiver of the certification requirement has occurred.

Dated: August 4, 2023.
Kimberly D. Bose,
Secretary.

[FR Doc. 2023-17159 Filed 8-9-23; 8:45 am]

BILLING CODE 6717-01-P